LEGAL SERVICES CORPORATION

Sunshine Act Meetings of the Board of Directors and Five Committees of the Board

Notice

DATE AND TIME: The Legal Services Corporation Board of Directors will meet on April 7, 2010 at 12 p.m., Eastern Time.

LOCATION: Legal Services Corporation, 3333 K Street, NW., Washington, DC 20007, 3rd Floor Conference Center.

PUBLIC OBSERVATION: For all meetings and portions thereof open to public observation, members of the public who are unable to attend but wish to listen to the proceedings may do so by following the telephone call-in directions given below. You are asked to keep your telephone muted to eliminate background noises. From time to time the Chairman may solicit comments from the public.

Call-in Directions for Open Session(s)

• Call toll-free number: 1-(866) 451-4981;

• When prompted, enter the following numeric pass code: 5907707348;

• When connected to the call, please “MUTE” your telephone immediately.

STATUS OF MEETING: Open.

MATTERS TO BE CONSIDERED:

Board of Directors

Agenda

Open Session

1. Approval of agenda;

2. Consider and act on nominations for the Chairman of the Board of Directors;

3. Consider and act on nominations for the Vice Chairman of the Board of Directors;

4. Consider and act on delegation to Chairman of authority to make Committee assignments;

5. Public comment;

6. Consider and act on other business;

7. Consider and act on motion to adjourn meeting.

CONTACT PERSON FOR INFORMATION: Katherine Ward, Executive Assistant to the Vice President & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward, at (202) 295-1500 or FR_NOTICE_QUESTIONS@lsc.gov.

Dated: March 29, 2010.
Patricia D. Batie,
Corporate Secretary.

[FR Doc. 2010-7388 Filed 3-29-10; 4:15 pm]

BILLING CODE 7050-01-P